DEPARTMENT OF ENERGY

Office of Energy Efficiency and Renewable Energy

Fuel Storage Performance Requirements for Early Market Cell Applications

AGENCY: Office of Energy Efficiency and Renewable Energy, Department of Energy (DOE).

ACTION: Notice of request for information; notice of public meeting.

SUMMARY: The U.S. Department of Energy (DOE) Office of Energy Efficiency and Renewable Energy (EERE) has issued a Request for Information (RFI) seeking input from prospective fuel cell system users, fuel cell component and system suppliers and other stakeholders on performance and cost requirements for fuel storage subsystems for near-term, early market fuel cell applications (e.g., for mobile applications such as fork lifts, stationary back-up power, portable power, etc) . This RFI is intended to be “fuel neutral” with the focus on defining the fuel storage needs and requirements for early market fuel cell applications to facilitate successful market transformation in a competitive environment. This information will be used by DOE in a preliminary assessment and ultimate determination of the storage system performance requirements. A public Workshop on the same topic will be held the afternoon of November 16th, in conjunction with the Fuel Cell Seminar, Nov 16-20, Palm Springs, CA.

DATES:

• November 16, 2009—DOE Workshop: Fuel Storage Performance Requirements for Early Market Fuel Cell Applications

• December 15, 2009—Deadline for Reponses to This RFI

ADDRESSES: The RFI is posted on: http://www1.eere.energy.gov/hydrogenandfuelcells/news_detail.html?news_id=1556.

Responses and questions may be submitted to StorageTargets2009@ee.doe.gov.

The DOE Workshop on Fuel Storage Performance Requirements will be the afternoon of November 16, 2009 in conjunction with the Fuel Cell Seminar to be held at the Palm Springs Convention Center and associated hotels, Palm Springs, CA, USA.

FOR FURTHER INFORMATION CONTACT: Dr. Sara Dillich, Hydrogen Storage Team Lead, Fuel Cells Technologies Program; EE-2H; 1000 Independence Ave., SE.; Washington, DC 20585; (202) 586-9995. More information on DOE's hydrogen storage program, targets and current research information can be found at http://www1.eere.energy.gov/hydrogenandfuelcells/storage/.

SUPPLEMENTARY INFORMATION:

Background

The EERE Fuel Cell Technologies Program seeks to advance the development and deployment of fuel cells for power generation in a variety of stationary, portable, and transportation applications. In support of this goal, EERE funds a broad range of hydrogen and fuel cell technologies research, development and demonstration (RD&D) activities.

The Program is currently working to identify appropriate performance and cost requirements for fuel storage subsystems for near-term, early markets for fuel cells. The requirements will be driven by consumer/user expectations for the various applications, rather than by the operating parameters or constraints of specific technologies. Cost and performance requirements and their accompanying time-based targets will be set with industry and market input and will help guide the RD&D required for improvements in physical storage systems and/or solid state storage materials, designs, and systems.

RFI Guidelines

Comments in response to this RFI must be provided as an attachment to an e-mail message addressed to StorageTargets2009@ee.doe.gov. All responses to this RFI should be delivered electronically to the aforementioned e-mail address using Microsoft Word (.doc) format and/or the fillable table. DOE would prefer that responses to this RFI, in addition to those provided in the fillable table, be no more than one page in length per each application category with a five page total maximum. Commercial product descriptions, marketing information and technical presentations/publications should not be included in response to this RFI.

According to 10 CFR 1004.11, any person submitting information that he or she believes to be confidential and exempt by law from public disclosure should submit two copies: one copy of the document including all the information believed to be confidential, and one copy of the document with the information believed to be confidential deleted. DOE will make its own determination about the confidential status of the information and treat it according to its determination.

Disclaimer

DOE will not reimburse costs associated with preparing any documents for this RFI. Note that the intent of this RFI is to provide an opportunity for stakeholders to submit input on targets, and will not lead directly to a Funding Opportunity Announcement.

For more information about the DOE Fuel Cell Technologies Program and related storage activities visit the Program's Web site at http://www.hydrogen.energy.gov and http://www.eere.energy.gov/hydrogenandfuelcells.

Issued in Washington, DC on November 2, 2009.
Sunita Satyapal,
Acting Program Manager, DOE-EERE Fuel Cell Technologies Program.

[FR Doc. E9-26690 Filed 11-4-09; 8:45 am]

BILLING CODE 6450-01-P